INTERNATIONAL TRADE COMMISSION

[Investigation Nos. 701-TA-318 and 731-TA-538 and 561 (Fourth Review)]

Sulfanilic Acid From China and India

Determinations

On the basis of the record ¹ developed in these subject five-year reviews, the United States International Trade Commission (“Commission”) determines, pursuant to the Tariff Act of 1930 (“the Act”), that revocation of the antidumping duty order on sulfanilic acid from China and the antidumping duty and countervailing duty orders on sulfanilic acid from India would likely lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on September 1, 2016 (81 FR 60386) and determined on December 5, 2016 that it would conduct expedited reviews (81 FR 92854, December 20, 2016).

The Commission made these determinations pursuant to section 751(c) of the Act (19 U.S.C. 1675(c)). It completed and filed its determinations in these reviews on April 17, 2017. The views of the Commission are contained in USITC Publication 4680 (April 2017), entitled Sulfanilic Acid From China and India: Investigation Nos. 701-TA-318 and 731-TA-538 and 561 (Fourth Review).

By order of the Commission.
Issued: April 17. 2017.
Lisa R. Barton,
Secretary to the Commission.

[FR Doc. 2017-08064 Filed 4-20-17; 8:45 am]

BILLING CODE 7020-02-P